DEPARTMENT OF THE INTERIOR

Bureau of Reclamation

Bunker Hill Groundwater Basin, Riverside-Corona Feeder Project, San Bernardino and Riverside Counties, CA

AGENCY: Bureau of Reclamation, Interior.

ACTION: Notice of intent.

SUMMARY: Pursuant to the National Environmental Policy Act (NEPA) and the California Environmental Quality Act (CEQA), the Bureau of Reclamation and the Western Municipal Water District (Western) will prepare a joint EIS/EIR for the proposed Riverside-Corona Feeder Project. The public and agencies are invited to comment on the scope of the EIS/EIR and the proposed alternatives.

This notice is provided pursuant to NEPA (42 U.S.C. 4332 (2) (c)) and Department of Interior regulations for implementation of NEPA (43 CFR Part 46).

DATES: Written comments on the scope of the EIS/EIR are requested within 30 days of the publication of this notice.

ADDRESSES: Please send written comments to Ms. Amy Campbell, Southern California Area Office, Bureau of Reclamation, 27708 Jefferson Avenue, Suite 202, Temecula, CA 92590; or e-mail to ACampbell@usbr.gov.

FOR FURTHER INFORMATION CONTACT: Ms. Amy Campbell, Southern California Area Office general telephone number 951-695-5310, or e-mail ACampbell@usbr.gov.

SUPPLEMENTARY INFORMATION:

Background

The proposed project is a large capacity water pipeline associated with an aquifer storage and recovery project. The project will install new groundwater wells at the Bunker Hill Groundwater Basin in San Bernardino County with pipelines ranging in diameter up to 78 inches to Western's Service Area in Riverside County.

Existing recharge basins will be used to store imported water and local Santa Ana River flows in the Bunker Hill Groundwater Basin during wet years for delivery to communities in western Riverside County in dry years via 28 miles of pipeline capable of delivering up to 40,000 acre-feet per year of ground water at 100 cubic feet per second (cfs). The proposed pipeline alignment will also provide access to groundwater from the Chino Basin in San Bernardino County.

Section 9112 of the Omnibus Public Land Management Act of 2009 (Pub. L. 111-11, 123 Stat. 1318), signed by the President on March 30, 2009, authorizes the Secretary of the Interior, in cooperation with Western, to participate in the planning, design, and construction of the Riverside-Corona Feeder Project including: (i) 20 groundwater wells; (ii) groundwater treatment facilities; (iii) water storage and pumping facilities; and (iv) 28 miles of pipeline in San Bernardino and Riverside Counties in the State of California.

Western certified a Program EIR (California State Clearinghouse No. 2003031121) under CEQA in 2005, and issued a Notice of Preparation of a draft Supplemental Program EIR on July 30, 2008 to evaluate a proposed change in the pipeline alignment. Our intention is to circulate the supplemental EIR for public review as a joint CEQA/NEPA document, incorporating the earlier Program EIR by reference. The draft document is expected to be available for public review in mid-March 2010.

Scoping Process

To avoid duplication with State and local procedures, we plan to use the scoping process initiated by Western under CEQA. No additional public scoping meetings are planned at this time. The CEQA Notice of Preparation, comments received, and a map showing the proposed project and pipeline alignment alternatives are available at http://www.usbr.gov/lc/socal/envdocs.html. No known Indian trust assets or environmental justice issues are associated with the Proposed Action, although the proposed pipeline alignment may include areas of low income and minority populations.

Written comments are requested to help identify any additional alternatives and issues that should be analyzed in the EIS/EIR. Federal, State and local agencies, tribes, and the general public are invited to participate in the environmental review process.

Public Disclosure

Before including your name, address, phone number, e-mail address, or other personal identifying information in your comment, please be aware that your entire comment—including your personal identifying information—may be made publicly available at any time. While you can ask us in your comment to withhold your personal identifying information from public review, we cannot guarantee that we will be able to do so.

Dated: February 18, 2010.
Jayne Harkins,
Deputy Regional Director, Bureau of Reclamation, Lower Colorado Region.

[FR Doc. 2010-3644 Filed 2-23-10; 8:45 am]

BILLING CODE 4310-MN-P